DEPARTMENT OF LABOR

Employment and Training Administration

[TA-W-56,633]

Syracuse China, Syracuse, NY; Notice of Revised Determination on Reconsideration of Alternative Trade Adjustment Assistance

By letter dated May 19, 2005, a petitioner requested administrative reconsideration regarding Alternative Trade Adjustment Assistance (ATAA) applicable to workers of the subject firm. The negative determination was signed on March 31, 2005, and was published in the Federal Register on May 2, 2005 (70 FR 22712).

The workers of Syracuse China, Syracuse, New York were certified eligible to apply for Trade Adjustment Assistance (TAA) on March 31, 2005.

The initial ATAA investigation determined that the skills of the subject worker group are easily transferable to other positions in the local area.

Upon further contacts with the company official it was confirmed that the skills of the workers at the subject firm are not easily transferable in the local commuting area.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of Syracuse China, Syracuse, New York, who became totally or partially separated from employment on or after February 8, 2004 through March 31, 2007, are eligible to apply for trade adjustment assistance under Section 223 of the Trade Act of 1974, and are also eligible to apply for alternative trade adjustment assistance under Section 246 of the Trade Act of 1974.

Signed in Washington, DC, this 2nd day of June, 2005.
Elliott S. Kushner,
Certifying Officer, Division of Trade Adjustment Assistance.

[FR Doc. E5-3029 Filed 6-10-05; 8:45 am]

BILLING CODE 4510-30-P